RAILROAD RETIREMENT BOARD

20 CFR Part 200

RIN 3220-AB 76

Guidance Documents

AGENCY: Railroad Retirement Board.

ACTION: Final rule; rescission of regulation.

SUMMARY: In accordance with Executive Order 13992, “Revocation of Certain Executive Orders Concerning Federal Regulation,” issued by President Biden on January 20, 2021, this final rule rescinds the Railroad Retirement Board's rule on guidance.

DATES: This final rule is effective April 30, 2021.

FOR FURTHER INFORMATION CONTACT: Marguerite P. Dadabo, Assistant General Counsel, Railroad Retirement Board, 844 North Rush Street, Chicago, Illinois 60611-1275, telephone (312) 751-4945, TTD (312) 751-4701.

SUPPLEMENTARY INFORMATION: On August 28, 2020, the Railroad Retirement Board published an interim final rule on guidance implementing Executive Order 13891, “Promoting the Rule of Law Through Improved Agency Guidance Documents,” signed by President Donald Trump on October 9, 2019 (85 FR 53160). As required by the Executive Order, the rule contained policy and requirements for issuing, modifying, withdrawing, and using guidance, making guidance available to the public, a notice and comment process for significant guidance, and taking and responding to petitions about guidance. On January 20, 2021, President Joseph Biden issued Executive Order 13992, “Revocation of Certain Executive Orders Concerning Federal Regulation” which among other things, revoked Executive Order 13891 and directed agencies to take steps promptly to rescind any orders, rules, regulations, guidelines, or policies, or portions thereof, implementing or enforcing the revoked Executive Orders (86 FR 7049).

In order to comply with Executive Order 13992, the Railroad Retirement Board has determined that this rule is suitable for final rulemaking. The Railroad Retirement Board also finds good cause to provide for an immediate effective date for this rule, because it imposes no obligations on parties inside or outside the federal government and therefore no advance notice is required to enable employees or other private parties to come into compliance.

List of Subjects in 20 CFR Part 200

Railroad employees, Railroad retirement, General administration.

For the reasons set out in the preamble and under the authority of 45 U.S.C. 231f(b)(5), the Railroad Retirement Board amends title 20, chapter II, subchapter A, part 200, of the Code of Federal Regulations as follows:

PART 200—GENERAL ADMINISTRATION

1. The authority citation for part 200 continues to read as follows:

Authority: 45 U.S.C. 231f(b)(5) and 45 U.S.C. 362; § 200.4 also issued under 5 U.S.C. 552; § 200.5 also issued under 5 U.S.C. 552a; § 200.6 also issued under 5 U.S.C. 552b; and § 200.7 also issued under 31 U.S.C. 3717.

§ 200.11 [Removed]

2. Remove § 200.11.

By Authority of the Board.
Dated: April 26, 2021.
Stephanie Hillyard,
Secretary to the Board.

[FR Doc. 2021-09036 Filed 4-29-21; 8:45 am]

BILLING CODE 7905-01-P